DEPARTMENT OF COMMERCE

National Oceanic and Atmospheric Administration

15 CFR Parts 921, 922, and 923

50 CFR Parts 217, 218, 222, 223, 224, 226, 229, 300, 600, 622, 635, and 697

[Docket No. 250731-0134]

RIN 0648-BN94

Gulf of America Name Change

AGENCY: National Marine Fisheries Service (NMFS) and National Ocean Service (NOS), National Oceanic and Atmospheric Administration (NOAA), Department of Commerce (DOC).

ACTION: Final rule.

SUMMARY: NMFS and NOS are amending their regulations to change the name of the “Gulf of Mexico” to the “Gulf of America,” consistent with a Presidential directive issued through Executive Order. The intended effect of this rule is to ensure consistency with the Executive Order and to provide clarity for the regulated and general public moving forward regarding the Gulf of America name change.

DATES: This final rule is effective August 7, 2025.

FOR FURTHER INFORMATION CONTACT: For information about this document, call or email Ms. Jenni Wallace, NOAA Fisheries; telephone (301) 427-8544, email jenni.wallace@noaa.gov.

SUPPLEMENTARY INFORMATION: President Donald J. Trump issued Executive Order (E.O.) 14172, titled “Restoring Names That Honor American Greatness” (90 FR 8629) on January 20, 2025. E.O. 14172 directed that the area formerly known as the Gulf of Mexico be renamed as the Gulf of America.

The purpose of this rule is to update the NMFS and NOS regulations in the Code of Federal Regulations (CFR) to reflect the renaming. Specifically, this rule changes all “Gulf of Mexico” references to “Gulf of America” and makes other consistency edits in existing regulations promulgated under the Coastal Zone Management Act (CZMA) (15 CFR parts 921, 923), National Marine Sanctuaries Act (15 CFR part 922), Marine Mammal Protection Act (50 CFR parts 217, 218, 229), Endangered Species Act (50 CFR parts 222-224, 226), Magnuson-Stevens Fishery Conservation and Management Act (MSA) (50 CFR parts 300, 600, 622, 635), and Atlantic Coastal Fisheries Cooperative Management Act (50 CFR part 697). The text of some statutes, such as the MSA and CZMA, contains explicit references to the “Gulf of Mexico.” In those cases, “Gulf of America” references in agency regulations mean the same geographic area as the “Gulf of Mexico,” as that term is used in the relevant statute. Note that the agency can make nomenclature changes in its regulations consistent with law, but cannot modify the text of statutes enacted by Congress.

This rule replaces the term “Gulf of Mexico” with “Gulf of America” where it appears in the above-referenced regulations. This change is consistent with E.O. 14172, and the name used by the Geographic Names Information System, which maintains standardized geographic names for Federal use. Under this rule, the name change in NMFS and NOS regulations does not result in any changes to, and has no effect on, the applicability or enforceability of the regulations. This rule will have no cost or substantive impact on the public, but will make consistent regulatory references to reflect the renamed Gulf of America.

In addition, for streamlining purposes, this rule removes 15 CFR part 922, subpart L, Appendix B, “Flower Garden Banks National Marine Sanctuary-Terms of Designation.” The terms of designation for a national marine sanctuary are not required to be in the CFR, and removal of the appendix does not change the terms of designation for Flower Garden Banks National Marine Sanctuary.

Classification

NOAA is issuing this rule pursuant to 16 U.S.C. 1855(d) of the Magnuson-Stevens Act (MSA), 16 U.S.C. 1382(a) of the Marine Mammal Protection Act (MMPA), 16 U.S.C. 1540(f) of the Endangered Species Act (ESA), 16 U.S.C. 5103(b) of the Atlantic Coastal Fisheries Cooperative Management Act (ACA), 16 U.S.C. 1439 of the National Marine Sanctuaries Act (NMSA), and 16 U.S.C. 1463 of the Coastal Zone Management Act (CZMA). The reason for using these general rulemaking authorities is that the rule makes nomenclature changes and related edits and does not substantively change regulations previously issued under the MSA, MMPA, ESA, ACA, NMSA, and CZMA. The Chief of Staff, exercising the Delegated Authority of the Under Secretary of Commerce for Oceans and Atmosphere and NOAA Administrator, has determined that this final rule is consistent with the MSA, MMPA, ESA, ACA, NMSA, and CZMA, regulations issued pursuant to those statutes, and other applicable law.

This final rule has been determined to be not significant for purposes of Executive Order 12866.

This final rule is not an Executive Order 14192 regulatory action because this action is not significant under Executive Order 12866.

This final rule contains no new information collection requirements under the Paperwork Reduction Act of 1995.

Pursuant to 5 U.S.C. 553(b)(B), there is good cause to waive prior notice and an opportunity for public comment on this action, as notice and comment are unnecessary.

Consistent with E.O. 14172, this final rule updates the name of Gulf of America in NMFS and NOS regulations and makes other related edits. This rule does not substantively change existing regulations and has no effect on the applicability or enforceability of the regulations. In addition, for streamlining purposes, this rule removes an appendix containing terms of designation for a national marine sanctuary. The terms of designation are not changed and are not required to be in the CFR. For the same reasons described above, there is good cause under 5 U.S.C. 553(d)(3) to waive the 30-day delay in effective date. It is unnecessary to provide time for the regulated community to adjust to this rule, as the rule makes no substantive changes to regulations with which they must already comply.

Because prior notice and opportunity for public comment are not required for this rule by 5 U.S.C. 553, or any other law, the analytical requirements of the Regulatory Flexibility Act, 5 U.S.C. 601 et seq., are inapplicable.

NOAA has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A tribal summary impact statement under section (5)(b)(2)(B) and section (5)(c)(2)(B) of E.O. 13175 is not required and has not been prepared.

List of Subjects

15 CFR Parts 921, 922, and 923

Coastal zone, Marine resources, Navigation (water), Recreation and recreation areas, Reporting and recordkeeping requirements, Research, Wildlife.

50 CFR Parts 217, 218, 222, 223, 224, 226, 229, 300, 600, 622, 635, and 697

Endangered and threatened species, Fisheries, Gulf, Gulf of America, Marine mammals.

Dated: August 1, 2025.
Laura Grimm,
Chief of Staff, Exercising the Delegated Authority of the Under Secretary of Commerce for Oceans and Atmosphere and NOAA Administrator, Department of Commerce.

For the reasons set out in the preamble, NMFS amends 15 CFR parts 921, 922 and 923, and 50 CFR parts 217, 218, 222, 223, 224, 226, 229, 300, 600, 622, 635, and 697 as follows:

TITLE 15—COMMERCE AND FOREIGN TRADE

PART 921—NATIONAL ESTUARINE RESEARCH RESERVE SYSTEM REGULATIONS

1. The authority citation for part 921 continues to read as follows:

Authority: Section 315 of the Coastal Zone Management Act, as amended (16 U.S.C. 1461).

§ 921.2 [Amended]

2. Amend § 921.2(c) by removing the words “Gulf of Mexico” and add, in their place, the words “Gulf of America”.

PART 922—NATIONAL MARINE SANCTUARY PROGRAM REGULATIONS

3. The authority citation for part 922 continues to read as follows:

Authority: 16 U.S.C. 1431 et seq.

Appendix B to Subpart L—[Removed]

4. Remove appendix B to subpart L of part 922.

§ § 922.120, 922.121, 922.122, and 922.162 [Amended]

5. Amend 15 CFR part 922 by removing the words “Gulf of Mexico” and add, in their place, the words “Gulf of America” in the following places:

a. Section 922.120;

b. Section 922.121;

c. Section 922.122(a)(2)(iii); and

d. Section 922.162(a).

PART 923—COASTAL ZONE MANAGEMENT PROGRAM REGULATIONS

6. The authority citation for part 923 continues to read as follows:

Authority: 16 U.S.C. 1451 et seq.; 31 U.S.C. 6506; 42 U.S.C. 3334; Sections 923.92 and 923.94 are also issued under E.O. 12372, July 14, 1982, 3 CFR 1982 Comp. p. 197, as amended by E.O. 12416, April 8, 1983, 3 CFR 1983 Comp. p. 186.

§ § 923.2 and 923.32 [Amended]

7. Amend 15 CFR part 923 by removing the words “Gulf of Mexico” and add, in their place, the words “Gulf of America” in the following places:

a. Section 923.2(f); and

b. Section 923.32(a)(1).

TITLE 50—WILDLIFE AND FISHERIES

PART 217—REGULATIONS GOVERNING THE TAKE OF MARINE MAMMALS INCIDENTAL TO SPECIFIED ACTIVITIES

8. The authority citation for part 217 continues to read as follows:

Authority: 16 U.S.C. 1361 et seq., unless otherwise noted.

Subpart S and §§ 217.180 and 217.305—[Amended]

9. Amend 50 CFR part 217 by removing the words “Gulf of Mexico” and add, in their place, the words “Gulf of America” in the following places:

a. Subpart heading of subpart S;

b. First mention of “Gulf of Mexico” in § 217.180; and

c. Section 217.305(g)(14)(i).

PART 218—REGULATIONS GOVERNING THE TAKING AND IMPORTING OF MARINE MAMMALS

10. The authority citation for part 218 continues to read as follows:

Authority: 16 U.S.C. 1361 et seq.

§ § 218.60, 218.80, and 218.84 [Amended]

11. Amend 50 CFR part 218 by removing the words “Gulf of Mexico” and add, in their place, the words “Gulf of America” in the following places:

a. Section 218.60(b);

b. Section 218.80(b); and

c. Paragraph headings of § 218.84(b)(3) and (3)(i)(A).

PART 222—GENERAL ENDANGERED AND THREATENED MARINE SPECIES

12. The authority citation for part 222 continues to read as follows:

Authority: 16 U.S.C. 1531 et seq.; 16 U.S.C. 742a et seq. Section 222.403 also issued under 16 U.S.C. 1361 et seq.

§ 222.102 [Amended]

13. Amend § 222.102 by removing the words “Gulf of Mexico” and add, in their place, the words “Gulf of America”.

PART 223—THREATENED MARINE AND ANADROMOUS SPECIES

14. The authority citation for part 223 continues to read as follows:

Authority: 16 U.S.C. 1531 1543; subpart B, § 223.201-202 also issued under 16 U.S.C. 1361 et seq.; 16 U.S.C. 5503(d) for § 223.206(d)(9).

§ 223.206 [Amended]

15. Amend § 223.206(d)(1)(ii) by removing the words “Gulf of Mexico” and add, in their place, the words “Gulf of America”.

PART 224—ENDANGERED MARINE AND ANADROMOUS SPECIES

16. The authority citation for part 224 continues to read as follows:

Authority: 16 U.S.C. 1531-1543 and 16 U.S.C. 1361 et seq.

§ 224.104 [Amended]

17. Amend § 224.104(a) by removing the words “Gulf of Mexico” and add, in their place, the words “Gulf of America”.

PART 226—DESIGNATED CRITICAL HABITAT

18. The authority citation for part 226 continues to read as follows:

Authority: 16 U.S.C. 1533.

§ § 226.214, 226.223, and 226.230 [Amended]

19. Amend 50 CFR part 226 by removing the words “Gulf of Mexico” and add, in their place, the words “Gulf of America” in the following places:

a. Section 226.214(g)(1), (k) paragraph heading and (k)(1) for Unit 11, (k) paragraph heading and (k)(1) for Unit 13, and (l)(1);

b. Section 226.223(a)(37) and (38); and

c. Section 226.230(b).

PART 229—AUTHORIZATION FOR COMMERCIAL FISHERIES UNDER THE MARINE MAMMAL PROTECTION ACT OF 1972

20. The authority citation for part 229 continues to read as follows:

Authority: 16 U.S.C. 1361; § 229.32(f) also issued under 16 U.S.C. 1531.

§ § 229.3, 229.35, and 229.36 [Amended]

21. Amend 50 CFR part 229 by removing the words “Gulf of Mexico” and add, in their place, the words “Gulf of America” in the following places:

a. Section 229.3(t);

b. Section 229.35(a) and (b); and

c. Section 229.36(a), (d), and (d)(3).

PART 300—INTERNATIONAL FISHERIES REGULATIONS

22. The authority citation for part 300 continues to read as follows:

Authority: 16 U.S.C. 951 et seq., 16 U.S.C. 1801 et seq., 16 U.S.C. 5501 et seq., 16 U.S.C. 2431 et seq., 31 U.S.C. 9701 et seq.

§ 300.122 [Amended]

23. Amend § 300.122(b) by removing the words “Gulf of Mexico” and add, in their place, the words “Gulf of America”.

PART 600—MAGNUSON-STEVENS ACT PROVISIONS

24. The authority citation for part 600 continues to read as follows:

Authority: 5 U.S.C. 561 and 16 U.S.C. 1801 et seq.

25. Amend § 600.10 by adding the definition of “Gulf of America” in alphabetical order to read as follows:

§ 600.10 Definitions.

* * * * *

Gulf of America means the same geographic area as the Gulf of Mexico, as that term is used in the text of the Magnuson-Stevens Act. This name change in the Chapter VI regulations does not result in any changes to, and has no effect on the applicability or enforceability of, the regulations.

* * * * *

26. Revise § 600.105(c) to read as follows:

§ 600.105 Intercouncil boundaries.

* * * * *

(c) South Atlantic and Gulf Councils. The boundary coincides with the line of demarcation between the Atlantic Ocean and the Gulf of America, which begins at the intersection of the outer boundary of the EEZ, as specified in the Magnuson-Stevens Act, and 83°00′ W. long., proceeds northward along that meridian to 24°35′ N. lat., (near the Dry Tortugas Islands), thence eastward along that parallel, through Rebecca Shoal and the Quicksand Shoal, to the Marquesas Keys, and then through the Florida Keys to the mainland at the eastern end of Florida Bay, the line so running that the narrow waters within the Dry Tortugas Islands, the Marquesas Keys and the Florida Keys, and between the Florida Keys and the mainland, are within the Gulf of America.

§ § 600.215 and 600.725 [Amended]

27. Amend 50 CFR part 600 by removing the words, “of Mexico” in the following places:

a. Section 600.215(c) heading and (c)(1); and

b. Section IV and section heading in Table for § 600.725(v).

§ § 600.502, 600.1201, and 600.1417 [Amended]

28. Amend 50 CFR part 600 by removing the words “Gulf of Mexico” and add, in their place, the words “Gulf of America” in the following places:

a. In § 600.502, Table 2 to § 600.502;

b. Section 600.1201(a); and

c. Section 600.1417(b)(1)(ii);

§ 600.1310 [Amended]

29. In § 600.1310:

a. Amend § 600.1310 heading and § 600.1310(e)(4) by removing the words, “of Mexico;”

b. Revise § 600.1310(a) to read as follows;

(a) Purpose and scope. This section establishes procedures and guidelines for referenda to be conducted on Individual Fishing Quota (IFQ) program proposals developed by the New England Fishery Management Council (NEFMC) and the Gulf Fishery Management Council (GFMC). These procedures and guidelines also apply to IFQ program proposals developed by NMFS for fisheries under the jurisdiction of the NEFMC or GFMC, except for certain provisions that only apply to a fishery management council. This section provides guidance on developing voter eligibility and vote weighting, and establishes general procedures to ensure referenda are conducted in a fair and equitable manner.

c. Amend § 600.1310(b)(2)(vii) and (c)(1)(ii) by removing the words, “Gulf of Mexico” and add, in its place, the words “Gulf of America”; and

d. Amend § 600.1310(b)(1), (b)(2)(vii), (c)(3) paragraph heading, (f)(1)(i)(B), and (h)(3) by removing the acronym, “GMFMC,” and add, in its place, the acronym, “GFMC”.

PART 622—FISHERIES OF THE CARIBBEAN, GULF OF AMERICA, AND SOUTH ATLANTIC

30. The authority citation for part 622 continues to read as follows:

Authority: 16 U.S.C. 1801 et seq.

31. Revise the part heading to read as shown above.

32. In § 622.1:

a. Amend Table 1 to § 622.1 by removing the acronym, “GMFMC” and add, in its place, the acronym, “GFMC”;

b. Remove the words, “of Mexico”; and

c. Revise footnote 8 to Table 1 to § 622.1.

The revision reads as follows:

§ 622.1 Purpose and scope.

* * * * *

Hogfish in the Gulf EEZ are managed under the FMP from the South Atlantic and Gulf of America intercouncil boundary specified in § 600.105(c) and south of 25°09′ N. lat. off the west coast of Florida. Hogfish in the remainder of the Gulf EEZ are managed under the FMP for the Reef Fish Resources of the Gulf.

* * * * *

33. In § 622.2, remove the definition of “GMFMC”, revise the definition of “Gulf”, add the definition of “Gulf Fishery Management Council (GFMC) or Gulf Council”, and revise the definition of “South Atlantic”, in alphabetical order, to read as follows:

§ 622.2 Definitions and acronyms.

* * * * *

Gulf means the Gulf of America as defined in § 600.10. The line of demarcation between the Atlantic Ocean and the Gulf of America is specified in § 600.105(c) of this chapter.

Gulf Fishery Management Council (GFMC) or Gulf Council means the Council established under 16 U.S.C. 1852(a)(1)(E).

* * * * *

South Atlantic means the Atlantic Ocean off the Atlantic coastal states from the boundary between the MAFMC and the SAFMC, as specified in § 600.105(b) of this chapter, to the line of demarcation between the Atlantic Ocean and the Gulf of America, as specified in § 600.105(c) of this chapter.

* * * * *

§ § 622.21, 622.22, and 622.53 [Amended]

34. Amend 50 CFR part 622 by removing the words, “Gulf of Mexico Fishery Management Council,” and add, in their place, the words “Gulf Council” in the following places:

a. Section 622.21(a)(2);

b. Section 622.22(a)(2); and

c. Section 622.53(a)(2)(iv).

§ § 622.7, 622.23, 622.28, 622.42, 622.50, 622.77, 622.93, 622.109, and 622.412 and Appendix A [Amended]

35. Amend 50 CFR part 622 by removing the words “of Mexico” in the following places:

a. Section 622.7(g) and (h);

b. Section 622.23(a)(1);

c. Section 622.28 introductory paragraph and paragraph (a);

d. Section 622.42;

e. Section 622.50(b)(1);

f. Section 622.77;

g. Section 622.93;

h. Section 622.109;

i. Section 622.412; and

j. Heading of Table 1 to Appendix A to Part 622.

§ § 622.4 and 622.13, Subpart B, §§ 622.30 and 622.41, Subparts C, D, E, and F, § 622.272, Subpart Q, §§ 622.369 and 622.374, and Subpart R [Amended]

36. Amend 50 CFR part 622 by removing the words “Gulf of Mexico” and add, in their place, the words “Gulf of America” in the following places:

a. Section 622.4;

b. Section 622.13(p), (kk), (ll), (mm), (nn), (oo), (pp), and (qq);

c. Subpart heading of subpart B;

d. Section 622.30(a);

e. Section 622.41(c)(1), (d)(1), (e)(1), (f)(1), (g)(1), and (q)(1);

f. Subpart heading of subpart C;

g. Subpart heading of subpart D;

h. Subpart heading of subpart E;

i. Subpart heading of subpart F;

j. Section 622.272(a)(2);

k. Subpart heading of subpart Q;

l. Section 622.369(c)(1)(i) and (ii);

m. Section 622.374(b)(1)(i) and (2)(i); and

n. Subpart heading of subpart R.

37. Revise Figure 3 to Appendix G to Part 622

Figure 3 to Appendix G—Cobia Gulf Migratory Group/Zone

BILLING CODE 3510-22-P

BILLING CODE 3510-22-C

PART 635—ATLANTIC HIGHLY MIGRATORY SPECIES

38. The authority citation for part 635 continues to read as follows:

Authority: 16 U.S.C. 971 et seq.; 16 U.S.C. 1801 et seq.

§§ 635.15 and 635.71 [Amended]

39. Amend 50 CFR part 635 by removing the acronym “GOM” and add, in its place, the word “Gulf” in the following places:

a. Section 635.15(c)(3) introductory text, (c)(3)(i), (c)(3)(ii), (c)(3)(iii), (e) introductory text, (e)(1)(i), (f)(1), (f)(2)(i), and (f)(6)(ii); and

b. Section 635.71(b)(51).

§ § 635.2, 635.15, 635.21, 635.22, 635.23, 635.24, 635.27, 635.28, 635.30, 635.31, and 635.71 and Appendix A [Amended]

40. In addition to the amendments listed above, amend 50 CFR part 635 by removing the words “Gulf of Mexico” and add, in their place, the words “Gulf of America” in the following places:

a. Section 635.2;

b. Section 635.15(c)(3) introductory text, (c)(3)(iii), (f)(1), and (f)(2)(i);

c. Section 635.21(b)(1), (c)(3), (c)(4), (c)(5)(iii)(A), and (c)(5)(iii)(C)(3);

d. Section 635.22(a)(1), and (c)(2);

e. Section 635.23(b)(1)(i), (b)(1)(ii), (b)(2)(i), (b)(2)(ii), (c)(1), (c)(2), (c)(3), and (c)(4);

f. Section 635.24(a)(4)(ii), (b)(4)(i), and (b)(4)(iii)(D);

g. Section 635.27(a)(2)(iii), (a)(3), (b)(1) introductory text, (b)(1)(ii) introductory text, (b)(1)(ii)(A), (b)(1)(ii)(B), (b)(1)(ii)(C), (b)(1)(ii)(D), (b)(1)(ii)(E), (b)(1)(ii)(F), and (b)(1)(iii) introductory text;

h. Section 635.28(b)(4)(ii), (b)(4)(iii), (b)(5) introductory text, and (b)(5)(i);

i. Section 635.30(c)(3), and (c)(5)(i);

j. Section 635.31(a)(1);

k. Section 635.71(a)(32), (a)(54), (b)(50), and (b)(51); and

l. Table 1 of Appendix A to Part 635.

PART 697—ATLANTIC COASTAL FISHERIES COOPERATIVE MANAGEMENT

41. The authority citation for part 697 continues to read as follows:

Authority: 16 U.S.C. 5101 et seq.

§ § 697.2 and 697.7 [Amended]

42. Amend 50 CFR part 697 by removing the words, “of Mexico” in the following places:

a. Section 697.2; and

b. Section 697.7(f)(1).

[FR Doc. 2025-15051 Filed 8-6-25; 8:45 am]

BILLING CODE 3510-22-P